FEDERAL COMMUNICATIONS COMMISSION

47 CFR Part 73

[MB Docket No. 21-219; RM-11907; DA 21-844; FR ID 39360]

Television Broadcasting Services Quincy, Illinois

AGENCY: Federal Communications Commission.

ACTION: Final rule.

SUMMARY: On May 17, 2021, the Media Bureau, Video Division (Bureau) issued a Notice of Proposed Rulemaking (NPRM) in response to a petition for rulemaking filed by WGEM License, LLC (Petitioner), the licensee of WGEM-TV, channel 10 (NBC), Quincy, Illinois, requesting the substitution of channel 19 for channel 10 at Quincy in the DTV Table of Allotments. For the reasons set forth in the Report and Order referenced below, the Bureau amends FCC regulations to substitute channel 19 for channel 10 at Quincy.

DATES: Effective July 23, 2021.

FOR FURTHER INFORMATION CONTACT: Joyce Bernstein, Media Bureau, at (202) 418-1647 or Joyce.Bernstein@fcc.gov.

SUPPLEMENTARY INFORMATION: The proposed rule was published at 86 FR 28523 on May 27, 2021. The Petitioner filed comments in support of the petition reaffirming its commitment to apply for channel 19, and Gray Television, Inc. filed comments in support. The Petitioner states that VHF channels have certain propagation characteristics which may cause reception issues for some viewers. In addition, WGEM-TV has received numerous complaints from viewers unable to receive the Station's over-the-air signal. In addition, the Petitioner demonstrated that while the proposed channel 19 facility will result in a slight reduction in WGEM-TV's noise limited contour, use of the Longley-Rice propagation model indicates that the proposed channel 19 facility will have an extended terrain-limited service throughout the gap area, and thus, there will be no loss of service.

This is a synopsis of the Commission's Report and Order, MB Docket No. 21-219; RM-11907; DA 21-844, adopted July 15, 2021, and released July 16, 2021. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.622(i), amend the Post-Transition Table of DTV Allotments, under Illinois, by revising the entry for Quincy to read as follows:

§ 73.622 Digital television table of allotments.

* * * * *

(i) * * *

Community | Channel No.
* * * * *
ILLINOIS
* * * * *
Quincy | 19, 32, * 34.
* * * * *

[FR Doc. 2021-15692 Filed 7-22-21; 8:45 am]

BILLING CODE 6712-01-P